DEPARTMENT OF JUSTICE

Notice of Lodging of Consent Decree Pursuant to the Comprehensive Environmental Response, Compensation and LIability Act

Pursuant to Section 122(d)(2) of the Comprehensive Environmental Response, Compensation, and Liability Act (“CERCLA”), 42 U.S.C. 9622(d)(2), and 28 CFR 50.7, notice is hereby given that a proposed Consent Decree embodying a settlement in United States v. James Campbell Company LLC, Civil Action No. 07-00308, was lodged on June 8, 2007, with the United States District Court for the District of Hawaii.

In a Complaint filed concurrently with the lodging of the Consent Decree, the United States alleges that the defendant, James Campbell Company LLC, currently owns the Del Monte Fresh Produce (Hawaii), Inc., site located in Oahu, Hawaii (“Site”) pursuant to Section 107(a)(1) of CERCLA, owned the Site during the time of disposal of hazardous substances pursuant to Section 107(a)(2) of CERCLA, and seeks injunctive relief to require James Campbell Company LLC to remedy the imminent and substantial endangerment at the Site pursuant to Section 106 of CERCLA. 42 U.S.C. 9606, 9607(a)(1), (2).

Under the proposed Consent Decree, James Campbell Company LLC is required to implement specified institutional controls that are consistent with the ongoing remediation of the Site. The Consent Decree, including Appendices A-C to the Consent Decree, apply varied institutional controls to the Site. Generally, the Consent Decree required James Campbell Company LLC to implement institutional controls that restrict use of land and water to prevent exposure to the contaminated soil and the perched and basal aquifer groundwater impacted by Site contaminants; to prevent activities that might interfere with the effectiveness of the remedy; to restrict use in a manner that causes a threat to public health; and to make these restrictions binding on future owners of the property.

The Department of Justice will receive for a period of thirty (30) days from the date of this publication, comments relating to the Consent Decree. Comments should be addressed to the Assistant Attorney General, Environment and Natural Resources Division, and either e-mailed to pubcomment-ee.enrd@usdoj.gov or mailed to P.O. Box 7611, U.S. Department of Justice, Washington, DC 20044-7611, and should refer to United Stated v. James Campbell Company LLC, DOJ Ref. 90-11-3-082771/1.

The Consent Decree may be examined at U.S. EPA Region 9, 75 Hawthorne Street, San Francisco, California 94105. During the public comment period, the Consent Decree may also be examined on the following Department of Justice website, http://www.usdol.gov/enrd/open.html. A copy of the Consent Decree may also be obtained by mail from the Consent Decree Library, U.S. Department of Justice, P.O. Box 7611, Ben Franklin Station, Washington, DC 20044-7611, or by faxing or e-mailing a request to Tonia Fleetwood (tonia.fleetwood@usdoj.gov), fax number (202) 514-0097, phone confirmation number (202) 514-1547. When requesting a copy from the Consent Decree Library, please enclose a check, payable to the U.S. Treasury, in the amount of $65.75 ($.25 per page reproduction cost).

W. Benjamin Fisherow,
Deputy Chief, Environmental Enforcement Section, Environment and Natural Resources Division.

[FR Doc. 07-3043 Filed 6-20-07; 8:45 am]

BILLING CODE 4410-15-M